DEPARTMENT OF COMMERCE

National Oceanic and Atmospheric Administration

RIN 0648-XD847

Fisheries of the South Atlantic; South Atlantic Fishery Management Council; Public Meeting

AGENCY: National Marine Fisheries Service (NMFS), National Oceanic and Atmospheric Administration (NOAA), Commerce.

ACTION: Notice of a meeting.

SUMMARY: The South Atlantic Fishery Management Council (Council) will hold a meeting of its King and Spanish Mackerel Advisory Panel (AP) in North Charleston, SC. The meeting is open to the public.

DATES: The meeting will be held from 9 a.m. until 5 p.m. on Wednesday, April 15, 2015.

ADDRESSES:

Meeting address: The meeting will be held at the Hilton Garden Inn, 5265 International Blvd., N. Charleston, SC 29418; telephone: (843) 308-9330.

Council address: South Atlantic Fishery Management Council, 4055 Faber Place Drive, Suite 201, N. Charleston, SC 29405.

FOR FURTHER INFORMATION CONTACT: Kim Iverson, Public Information Officer, South Atlantic Fishery Management Council, 4055 Faber Place Drive, Suite 201, N. Charleston, SC 29405; telephone: (843) 571-4366 or toll free: (866) SAFMC-10; fax: (843) 769-4520; email: kim.iverson@safmc.net.

SUPPLEMENTARY INFORMATION: The King and Spanish Mackerel AP will receive updates on recent amendments to the Coastal Migratory Pelagics Fishery Management Plan for the Gulf of Mexico and the South Atlantic (Mackerel FMP). The AP will receive an update on Amendment 26 to the Mackerel FMP that includes alternatives for revisions to the annual catch limits and stock management boundary for king mackerel and to allow the sale of king mackerel bycatch in the shark gillnet fishery. The AP will also receive a presentation on electronic reporting and review the Generic Charterboat Reporting Amendment. Additionally, the AP will be briefed on genetic research on South Carolina sub-populations of cobia. The AP will provide recommendations as appropriate and address other business as necessary.

Special Accommodations

The meeting is physically accessible to people with disabilities. Requests for auxiliary aids should be directed to the Council office (see ADDRESSES) 3 days prior to the meeting.

Note: The times and sequence specified in this agenda are subject to change.

Dated: March 25, 2015.
Tracey L. Thompson,
Acting Deputy Director, Office of Sustainable Fisheries, National Marine Fisheries Service.

[FR Doc. 2015-07175 Filed 3-27-15; 8:45 am]

BILLING CODE 3510-22-P